FEDERAL COMMUNICATIONS COMMISSION

[CC Docket No. 92-237; DA 02-2213]

Next Meeting of the North American Numbering Council

AGENCY: Federal Communications Commission.

ACTION: Notice.

SUMMARY: On September 10, 2002, the Commission released a public notice announcing the September 24-25, 2002 meeting and agenda of the North American Numbering Council (NANC). The intended effect of this action is to make the public aware of the NANC's next meeting and its agenda.

FOR FURTHER INFORMATION CONTACT: Deborah Blue, Special Assistant to the Designated Federal Officer (DFO) at (202) 418-1466 or dblue@fcc.gov. The address is: Telecommunications Access Policy Division, Wireline Competition Bureau, Federal Communications Commission, The Portals II, 445 12th Street, SW., Suite 5-A420, Washington, DC 20554. The fax number is: (202) 418-2345. The TTY number is: (202) 418-0484.

SUPPLEMENTARY INFORMATION: Released: September 10, 2002.

The North American Numbering Council (NANC) has scheduled a meeting to be held Tuesday, September 24, 2002, from 9 a.m. until 5 p.m., and on Wednesday, September 25, 2002, from 8:30 a.m., until 12 noon (if required). The meeting will be held at the Federal Communications Commission, Portals II, 445 12th Street, SW., Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda—Tuesday, September 24, 2002, 9 a.m.

1. Announcements and Recent News

2. Approve Minutes

—Meeting of July 17-18, 2002

3. Report of North American Numbering Plan Administrator (NANPA)

—CO Code Activity Report

—Status of NPA Relief Projects

—NPA Inventory and Reservations

—500 NPA Status

—Changes in NPA Exhaust Projections

—CAS/LERG Discrepancy Work

4. Status of Industry Numbering Committee activities

—Summary of NANP Expansion Reference Document

—Response to pre-submitted questions (due 9/5)

—Review of rejected/not adopted proposals

5. Report of NANP Expansion/Optimization IMG

—Final Report

6. Report of National Thousands-Block Pooling Administrator

7. Review of NANPA Oversight Working Group

—Regular Report of NOWG

—Progress on Performance Improvement Plan

—Description of future activities

—Guidelines for NANPA & Pooling Administrator Oversight WG

8. Report of the Local Number Portability Administration (LNPA) Working Group

9. Wireless Number Portability Operations (WNPO) Subcommittee

—Readiness for Wireless Number Pooling

—Summary of 9/10 Pooling Admin Assessment Report

10. Report of NAPM LLC

11. Report from NBANC

12. Report of Cost Recovery Working Group

13. Report of E-Conferencing Subcommittee

14. Report of Intermediate Numbering/Soft Dial Tone IMG

15. Steering Committee

—Table of NANC Projects

16. Report of Steering Committee

17. Action Items

18. Public Participation (5 minutes each)

19. Other Business

Adjourn no later than 5 p.m.

Wednesday, September 25, 2002—8:30 a.m., if required

20. Complete any unfinished Agenda Items

21. Other Business

Adjourn no later than 12 noon.

Next Meeting: November 19-20, 2002.

Federal Communications Commission.
Cheryl L. Callahan,
Assistant Chief, Telecommunications Access Policy Division, Wireline Competition Bureau.

[FR Doc. 02-23352 Filed 9-12-02; 8:45 am]

BILLING CODE 6712-01-P